DEPARTMENT OF DEFENSE

Office of the Secretary

[Docket ID: DoD-2020-OS-0007]

Privacy Act of 1974; System of Records

AGENCY: Office of the Secretary, Department of Defense (DoD).

ACTION: Notice of a modified System of Records.

SUMMARY: The Office of the Secretary of Defense (OSD) is modifying a System of Records Notice (SORN), Security Assistance Network (SAN), DSCA 07. The SAN is an international security cooperation (SC) database and communications network that provides the Security Cooperation Offices (SCOs) and others in the SC community access to SC financial and logistics management systems, information via various bulletin boards, and a library system for sharing large document files. The SAN provides the primary interface for the input and output of data from all military departments, SCOs, and International Military Student Offices (IMSOs). Additionally, the SCO training manager obtains data used for the Security Cooperation Training Management System (SC-TMS) from SAN. All SCOs and IMSOs must use the SAN and its components to perform their assigned SC training management functions.

DATES: This System of Records modification is effective upon publication; however, comments on the Routine Uses will be accepted on or before February 18, 2020. The Routine Uses are effective at the close of the comment period.

ADDRESSES: You may submit comments, identified by docket number and title, by any of the following methods:

* Federal Rulemaking Portal: https://www.regulations.gov.

Follow the instructions for submitting comments.

* Mail: Department of Defense, Office of the Chief Management Officer, Directorate for Oversight and Compliance, 4800 Mark Center Drive, Mailbox #24, Suite 08D09, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Luz D. Ortiz, Chief, Records, Privacy and Declassification Division (RPDD), 1155 Defense Pentagon, Washington, DC 20301-1155, or by phone at (571) 372-0478.

SUPPLEMENTARY INFORMATION: The OSD is modifying a System of Records subject to the Privacy Act of 1974, 5 U.S.C. 552a. This notice serves to update the SORN for SAN, DSCA 07, published in the Federal Register (FR) on September 22, 2016, Vol. 81, No. 184.

As a result of reviewing this SORN, the OSD is modifying this system by updating the categories of records, routine uses, contesting record procedures, and notification procedures for the application, Security Cooperation Workforce Development Database (SCWDD), including the format of the SORN to coincide with the new SORN template defined in Office of Management and Budget (OMB) Circular A-108, “Federal Agency Responsibilities for Review, Reporting, and Publication under the Privacy Act.”

The OSD notices for Systems of Records subject to the Privacy Act of 1974 (5 U.S.C. 552a), as amended, have been published in the FR and are available from the address in the FOR FURTHER INFORMATION CONTACT section or at the Defense, Privacy, Civil Liberties and Transparency Division (DPCLTD) website at https://dpcld.defense.gov.

The proposed system report, as required by 5 U.S.C. 552a(r) of the Privacy Act of 1974, as amended, was submitted on October 10, 2019 to the House Committee on Oversight and Reform, the Senate Committee on Governmental Affairs, and the OMB pursuant to Section 6 to OMB Circular No. A-108, “Federal Agency Responsibilities for Review, Reporting, and Publication under the Privacy Act,” revised December 23, 2016 (December 23, 2016, 81 FR 94424).

Dated: January 10, 2020.
Aaron T. Siegel,
Alternate OSD Federal Register Liaison Officer, Department of Defense.

SYSTEM NAME AND NUMBER

Security Assistance Network (SAN), DSCA 07.

SECURITY CLASSIFICATION:

Unclassified.

SYSTEM LOCATION:

Institute for Defense Analysis, 4850 Mark Center Drive, Alexandria, VA 22311-1882.

SYSTEM MANAGER(S):

SAN System Manager, Defense Institute of Security Cooperation Studies, 2475 K. Street, Bldg. 52, Wright-Patterson AFB, OH 45433-7641, email: dsca.ncr.lmo.mbx.info@mail.mil.

AUTHORITY FOR MAINTENANCE OF THE SYSTEM:

10 U.S.C. 134, Under Secretary of Defense for Policy; 22 U.S.C. 39, Arms Export Control Act, Chapters 32 and Chapter 39; Department of Defense (DoD) Directive (DoDD) 5105.65, Defense Security Cooperation Agency (DSCA); DoDD 5101.1, DoD Executive Agent; DoDD 5132.03, DoD Policy and Responsibilities Relating to Security Cooperation; Army Regulation 12-15, Secretary of the Navy Instruction 4950.4B; Air Force Instruction 16-105, Joint Security Cooperation Education and Training; and DSCA Manual 5105.38-M, Security Assistance Management Manual (SAMM), Chapter 10, International Training.

PURPOSE(S) OF THE SYSTEM:

The SAN is a network used to exchange Security Cooperation (SC) personnel management, training, and budget information between overseas Security Cooperation Offices (SCOs), Geographical Combatant Commands, Military Departments, DSCA, Defense Finance and Accounting Services, DoD Schoolhouses, Regional Centers, and international host nation organizations.

The SAN hosts the Security Cooperation Training Management System (SC-TMS) which incorporates a set of tools used by the SC community to manage student training data, including the Security Cooperation Workforce Development Database (SCWDD) and International Affairs Certification Database (IACD), both of which track and provide the status of training for the SC workforce certification levels.

In addition, the SAN hosts the Security Assistance Automated Resource Management Suite and the Security Cooperation International Resource Management System, both of which are budget programs and do not collect personally identifiable information.

CATEGORIES OF INDIVIDUALS COVERED BY THE SYSTEM:

DoD civilian, military, contractor personnel (collectively, “U.S. personnel”), and individuals with dual citizenship with the U.S. selected to attend DoD security cooperation training (collectively, “Students”).

CATEGORIES OF RECORDS IN THE SYSTEM:

SC-TMS: Name and alias, full face photograph, gender, citizenship, nationality, date and place of birth, physical description, work or personal email addresses, work and home addresses, work and home telephone numbers, marital status, military rank and date of rank, branch of military service, identification and control numbers, clearance, passport and visa information, health information, lodging and travel information, emergency contact(s), language capabilities, educational and employment information, academic evaluation, religious affiliation, preferences (i.e., food, entertainment, etc.), activity remarks, and dependency data (if accompanied); U.S. Personnel and Foreign Officials at Ministry of Defense: Name, organization, office telephone and fax numbers, point of contact function, and military rank.

SCWDD: U.S. personnel data: Name and alias, work email address and telephone number, DoD Common Access Card (CAC), DoD Identification Number (DoD ID Number), student identification number, military service, military rank, civilian grade, professional experience, specialized skills, education and training achieved, career field, military employment code, position/billet information, required personnel type, appointment authority and type, supervisory position, organization, unit identification code (UIC), data source of UIC, security cooperation training, experience and education required, source of training required, security cooperation activity category and function, contract labor hours, status of security cooperation training and international programs security requirements, rotation and report dates, replacement personnel information, other professional certification program information, remarks and comments.

IACD: Full name, home or work email and mailing addresses and telephone numbers, fax numbers, major command and mailing address, name of organization, office symbol/code, job title, job function, grade/rank, job series, military specialty, start date, total months in international affairs related work, billet information, current certification level, highest education completed, and field of study; supervisor information: First and last name, email address, organization, office symbol, work phone and fax number. SAN account holders: Name, DoD ID Number, user group number, organization, job title, office code, country/location code, status (e.g., government employee (U.S. citizen), SAN affiliation-organization, responsibilities, work mailing and email addresses; DSN and fax numbers.

RECORD SOURCE CATEGORIES:

From the individual.

ROUTINE USES OF RECORDS MAINTAINED IN THE SYSTEM, INCLUDING CATEGORIES OF USERS AND PURPOSES OF SUCH USES:

In addition to those disclosures generally permitted under 5 U.S.C. 552a(b) of the Privacy Act of 1974, as amended, the records contained herein may specifically be disclosed outside the DoD as a routine use pursuant to 5 U.S.C. 552a(b)(3):

a. To contractors, grantees, experts, consultants, students, and others performing or working on a contract, service, grant, cooperative agreement, or other assignment for the DoD when necessary to accomplish an agency function related to this System of Records.

b. To the appropriate Federal, State, local, territorial, tribal, foreign, or international law enforcement authority or other appropriate entity where a record, either alone or in conjunction with other information, indicates a violation or potential violation of law, whether criminal, civil, or regulatory in nature.

c. To any component of the Department of Justice for the purpose of representing the DoD, or its components, officers, employees, or members in pending or potential litigation to which the record is pertinent.

d. In an appropriate proceeding before a court, grand jury, or administrative or adjudicative body or official, when the DoD or other Agency representing the DoD determines the records are relevant and necessary to the proceeding; or in an appropriate proceeding before an administrative or adjudicative body when the adjudicator determines the records to be relevant to the proceeding.

e. To the National Archives and Records Administration for the purpose of records management inspections conducted under the authority of 44 U.S.C. 2904 and 2906.

f. To a member of Congress or staff acting upon the Member's behalf when the Member or staff requests the information on behalf of, and at the request of, the individual who is the subject of the record.

g. To appropriate agencies, entities, and persons when (1) the DoD suspects or confirms a breach of the System of Records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

h. To another Federal agency or Federal entity, when the DoD determines information from this System of Records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

Electronic storage media and paper records.

POLICIES AND PRACTICES FOR RETRIEVAL OF RECORDS:

DoD ID Number, other identification and control numbers, or by the name of individual.

POLICIES AND PRACTICES FOR RETENTION AND DISPOSAL OF RECORDS:

SC-TMS: Destroy five years after completion of a specific training program.

SCWDD: Destroy five years after period covered by account.

IAPID: Destroy five years from last activity or when superseded or obsolete, whichever is sooner.

ADMINISTRATIVE, TECHNICAL, AND PHYSICAL SAFEGUARDS:

Records are maintained in a controlled facility. Physical entry is restricted by the use of locks, and is accessible only to authorized personnel. Access to records is limited to person(s) responsible for servicing the record in performance of their official duties and who are properly screened and cleared for need-to-know. Access to computerized data is restricted by centralized access control to include the use of CAC, passwords, file permissions, and audit logs.

RECORDS ACCESS PROCEDURES:

Individuals seeking access to records about themselves contained in this system should address written inquiries to the Office of the Secretary of Defense/Joint Staff Freedom of Information Act Requester Service Center, 1155 Defense Pentagon, Washington, DC 20301-1155. Signed, written requests should include the full name, current address and telephone number, and the name and number of this SORN. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents and appealing initial agency determinations are published in 32 CFR part 310, or may be obtained from the system manager.

NOTIFICATION PROCEDURES:

Individuals seeking to determine whether information about themselves is contained in this System of Records should address written inquiries to SAN System Manager, Director of Institute of Security Cooperation Studies or Director of Research, 2475 K Street, Wright-Patterson AFB, OH 45433-7641. Signed, written requests should include the full name, current address and telephone number, and the name and number of this SORN. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

None.

HISTORY:

September 22, 2016, 81 FR 65343.

[FR Doc. 2020-00587 Filed 1-15-20; 8:45 am]

BILLING CODE 5001-06-P